DEPARTMENT OF TRANSPORTATION

Office of the Secretary of Transportation

[Docket No.: DOT-OST-2026-0826]

National Advisory Committee on Travel and Tourism Infrastructure; Solicitation for Committee Member Nominations

AGENCY: Department of Transportation.

ACTION: Notice; solicitation of nominations for membership.

SUMMARY: The Department of Transportation announces the renewal of the DOT National Advisory Committee on Travel and Tourism Infrastructure (NACTTI) and seeks nominations for membership to serve on the Committee.

DATES: The deadline for nominations for Committee members must be received on or before April 1, 2026.

ADDRESSES: All nomination material should be emailed to the Office of the Secretary at: NACTTI@dot.gov, or mailed to: Docket Management Facility, U.S. Department of Transportation, 1200 New Jersey Avenue SE, West Building 5th Floor, Room W58-213, Washington, DC 20590-0001.

Any person requiring accessibility accommodations should contact the Office of the Secretary at (202) 366-5903 or email the NACTTI Designated Federal Official at NACTTI@dot.gov.

FOR FURTHER INFORMATION CONTACT: NACTTI Designated Federal Official, at NACTTI@dot.gov or (202) 366-7758. Also visit the NACTTI internet website at http://www.transportation.gov/NACTTI.

SUPPLEMENTARY INFORMATION:

I. Background

The Department announces the renewal of the charter of the NACTTI and solicits nominations for membership to serve on the Committee. Pursuant to Section 1431 of the Fixing America's Surface Transportation (FAST) Act, the Secretary of Transportation established NACTTI on June 1, 2016 to provide information, advice, and recommendations to the Secretary on matters relating to the role of intermodal transportation in facilitating mobility related to travel and tourism activities. These activities ignite the economic engine of American tourism, strengthen domestic travel, and encourage American families to rediscover the beauty, pride, and shared heritage of the United States and support national celebrations and globally significant events hosted on American soil (including major sporting and cultural events) and help showcase the Nation's infrastructure, landscapes, and communities as the United States commemorates the 250th anniversary of the signing of the Declaration of Independence (“America 250”).

NACTTI advises the Secretary on current and emerging priorities, issues, projects, and funding needs related to the use of the intermodal transportation network of the United States to facilitate travel and tourism; serves as a forum for discussion for travel and tourism stakeholders on transportation issues affecting interstate and interregional mobility of passengers; and gathers information, develops technical advice, and makes recommendations to the Secretary on policies that improve the condition and performance of an integrated national transportation system that is safe, economical and efficient.

Members must actively participate in Committee deliberations and contribute substantively to the Committee's work. Committee service requires review of complex materials, participation in subcommittee work, preparation for meetings outside of scheduled Committee sessions, stakeholder consultations, online research, drafting of report content, report preparation, and translating specialized knowledge into actionable recommendations.

In this notice, the Department is soliciting nominations for membership to the Committee. The Committee shall report to the Secretary through the Assistant Secretary for Aviation and International Affairs.

• NACTTI shall comprise no more than 15 members, each of whom shall be appointed by the Secretary of Transportation for a 2-year term. The membership shall include public and private sector stakeholders including but not limited to travel and tourism industry, product and service providers and related associations and marketing organizations, the travel and tourism-related workforce, State tourism offices and departments of transportation, and metropolitan planning organizations and local governments, organizations with expertise in intermodal connectivity for travel and tourism, and entities with expertise in public-private-partnerships.

Additional factors that will be considered in the selection of NACTTI members include candidates' proven experience in the strategic development and management of travel, tourism, transportation-related or other service-related organizations; or the candidate's proven experience in promoting, developing, and implementing advertising, marketing, or financial programs for travel, tourism or transportation-related industries.

Priority may be given to a Chief Executive Officer, Executive Director, or President (or comparable level of responsibility) of a U.S. company, U.S. organization, or U.S. entity in the travel, tourism, or transportation sectors.

Each NACTTI member shall serve as the representative of a U.S. entity engaged in any of the above-listed activities.

Members shall serve in a representative capacity, representing the views and interests of their particular industry subsector. NACTTI members are not Special Government Employees, and will receive no compensation for their participation in NACTTI activities. All NACTTI meetings will be held virtually, and members participating in NACTTI events will be responsible for their travel, living and other personal expenses. Meetings will be held regularly and, to the extent practical, at least once a year or more frequently as is determined necessary.

Process and Deadline for Submitting Nominations: Qualified individuals can self-nominate or be nominated by any individual or organization. To be considered for the DOT NACTTI, nominators should submit the following information:

1. Name, title, and relevant contact information (including telephone, fax, and email address) of the individual under consideration;

2. A letter of support or recommendation letter, on letterhead, from a company, union, trade or membership association, or non-profit organization containing a brief description of why the nominee should be considered for membership;

3. A one-page biography summarizing the applicant's unique experiences and qualifications, any professional and academic credentials, experience serving on advisory committees, and the reason(s) why he or she would like to join NACTTI.

4. An affirmative statement that the nominee meets all Committee eligibility requirements.

Please do not send company, trade association, organization brochures or any other promotional information. Materials submitted should total 2 pages or less. Should more information be needed, DOT staff will contact the nominee, obtain information from the nominee's past affiliations, or obtain information from publicly available sources, such as the internet.

Nominations must be received before April 1, 2026. Nominees selected for appointment to the Committee will be notified by return email and by a letter of appointment.

Cindy Baraban,
Deputy Assistant Secretary for Aviation and International Affairs, Office of the Secretary, U.S. Department of Transportation.

[FR Doc. 2026-04003 Filed 2-27-26; 8:45 am]

BILLING CODE 4910-9X-P